DEPARTMENT OF VETERANS AFFAIRS

[OMB Control No. 2900-0101]

Agency Information Collection Activities Under OMB Review

AGENCY: Veterans Benefits Administration, Department of Veterans Affairs.

ACTION: Notice.

SUMMARY: In compliance with the Paperwork Reduction Act (PRA) of 1995 (44 U.S.C., 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before March 3, 2000.

FOR FURTHER INFORMATION OR A COPY OF THE SUBMISSION CONTACT: Denise McLamb, Information Management Service (045A4), Department of Veterans Affairs, 810 Vermont Avenue, NW, Washington, DC 20420, (202) 273-8030 or FAX (202) 273-5981. Please refer to “OMB Control No. 2900-0101.”

SUPPLEMENTARY INFORMATION: Title: Eligibility Verification Reports (EVR) (Eleven of the EVRs are computer-generated forms which may be dispatched from VA's central computer. The remaining 11 forms (those with a “-1” suffix on the form number) are stocked forms).

a. Old Law Eligibility Verification Report (Surviving Spouse), VA Forms 21-0511S and 21-0551S-1.

b. Old Law Eligibility Verification Report (Veteran), VA Forms 21-0511V and 21-0511V-1.

c. Section 306 Eligibility Verification Report (Surviving Spouse), VA Forms 21-0512S and 21-0512S-1.

d. Section 306 Eligibility Verification Report (Veteran), VA Forms 21-0512V and 21-0512V-1.

e. Old Law and Section 306 Eligibility Verification Report (Children Only), VA Forms 21-0513 and 21-0513-1.

f. DIC Parent's Eligibility Verification Report, VA Forms 21-0514 and 21-0514-1.

g. Improved Pension Eligibility Verification Report (Veteran With No Children), VA Forms 21-0516 and 21-0516-1.

h. Improved Pension Eligibility Verification Report (Veteran With Children), VA Forms 21-0517 and 21-0517-1.

i. Improved Pension Eligibility Verification Report (Surviving Spouse With No Children), VA Forms 21-0518 and 21-0518-1.

j. Improved Pension Eligibility Verification Report (Child or Children), VA Forms 21-0519C and 21-0519C-1.

k. Improved Pension Eligibility Verification Report (Surviving Spouse With Children), VA Forms 21-0519S and 21-0519S-1.

OMB Control Number: 2900-0101.

Type of Review: Extension of a currently approved collection.

Abstract: The Eligibility Verification Reports are used to report changes in entitlement factors in VA's income-based benefit programs, pension and parents' Dependency and Indemnity Compensation (DIC). Any individual who has applied for or receives pension or parents' DIC must promptly notify VA in writing of any changes in entitlement factors. The reports are also used to confirm that there have been no changes in entitlement factors.

An agency may not conduct or sponsor, and a person is not required to respond to a collection of information unless it displays a currently valid OMB control number. The Federal Register Notice with a 60-day comment period soliciting comments on this collection of information was published on October 5, 1999 at page 54071.

Affected Public: Individuals or households.

Estimated Annual Burden: 146,947 hours.

Estimated Average Burden Per Respondent: 30 minutes.

Frequency of Response: On occasion.

Estimated Number of Respondents: 293,894.

Send comments and recommendations concerning any aspect of the information collection to VA's OMB Desk Officer, Allison Eydt, OMB Human Resources and Housing Branch, New Executive Office Building, Room 10235, Washington, DC 20503 (202) 395-4650. Please refer to “OMB Control No. 2900-0101” in any correspondence.

Dated: December 28, 1999.
By direction of the Secretary.
Sandra McIntyre,
Management Analyst, Information Management Service.

[FR Doc. 00-2208 Filed 2-1-00; 8:45 am]

BILLING CODE 8320-01-P